DEPARTMENT OF JUSTICE

Notice of Lodging of Settlement Agreement Pursuant to the Comprehensive Environmental Response, Compensation and Liability Act

Notice is hereby given that on March 14, 2008 a proposed settlement agreement in In re W.R. Grace & Co., Case No. 01-01139 (JFK), was lodged with the United States Bankruptcy Court for the District of Delaware. The proposed Settlement Agreement would resolve the United States' proofs of claim filed in W.R. Grace & Co.'s bankruptcy proceeding for environmental response costs at the Curtis Bay Site near Baltimore, Maryland pursuant to section 107 of the Comprehensive Environmental Response, Compensation and Liability Act (CERCLA), 42 U.S.C. 9607.

Under the terms of the Settlement Agreement, W.R. Grace & Co. will implement a cleanup action at the Curtis Bay Site selected by the United States Army Corps of Engineers. The Settlement Agreement also allocates financial responsibility for the cleanup between the United States and Debtors.

The Department of Justice will receive, for a period of thirty (30) days from the date of this publication, comments relating to the proposed settlement agreement. Comments should be addressed to the Assistant Attorney General for the Environment and Natural Resources Division, and either e-mailed to pubcomment-ees.enrd@usdoj.gov or mailed to P.O. Box 7611, U.S. Department of Justice, Washington, DC 20044-7611, and should refer to In re W.R. Grace & Co., Case No. 01-01139 (JFK), and D.J. Ref. No. 90-11-2-07106/5.

During the public comment period, the settlement agreement may be examined on the following Department of Justice Web site, http://www.usdoj.gov/enrd/Consent_Decrees.html. A copy of the settlement agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.00 ($.25 per page) payable to the U.S. Treasury or, if by e-mail or fax, forward a check in that amount to the Consent Decree Library at the stated address.

Robert D. Brook,
Assistant Chief, Environmental Enforcement Section, Environment and Natural Resources Division.

[FR Doc. E8-5606 Filed 3-19-08; 8:45 am]

BILLING CODE 4410-CW-P